DEPARTMENT OF TRANSPORTATION

Federal Aviation Administration

14 CFR Parts 401, 415, 431, 435, 440 and 460

[Docket No. FAA-2005-23449]

Human Space Flight Requirements for Crew and Space Flight Participants

AGENCY: Federal Aviation Administration, DOT.

ACTION: Notice of Office of Management and Budget Approval for Information Collection.

SUMMARY: This notice announces the Office of Management and Budget's (OMB) approval of the information collection requirement in the final rule published on December 15, 2006. The sections of the final rule pending approval of this information collection request are effective upon publication of this notice.

DATES: On April 16, 2007, the FAA received OMB approval for the information collection requirement in the final rule published at 71 FR 75616 (December 15, 2006). The compliance date for information collection requirements in §§ 460.5, 460.7, 460.9, 460.19, 460.45, and 460.49 is May 17, 2007.

FOR FURTHER INFORMATION CONTACT: For technical information, contact Kenneth Wong, Deputy Manager, Licensing and Safety Division, Commercial Space Transportation, AST-200, Federal Aviation Administration, 800 Independence Avenue, SW., Washington, DC 20591; telephone (202) 267-8465; facsimile (202) 267-3686; e-mail ken.wong@faa.gov. For legal information, contact Laura Montgomery, Senior Attorney, Office of the Chief Counsel, Federal Aviation Administration, 800 Independence Avenue, SW., Washington, DC 20591; telephone (202) 267-3150; facsimile (202) 267-7971, e-mail laura.montgomery@faa.gov.

SUPPLEMENTARY INFORMATION:

Background

On December 15, 2006, the FAA published the final rule, Human Space Flight Requirements for Crew and Space Flight Participants, in the Federal Register. The rule established requirements for human space flight as required by the Commercial Space Launch Amendments Act of 2004. In the DATES section of the final rule, we noted that affected parties did not need to comply with the information collection requirements in specified sections of the rule until the Office of Management and Budget (OMB) approved the FAA's request to collect the information.

According to the Paperwork Reduction Act, OMB approved the FAA's request for new information collection on April 16, 2007, and assigned the information collection OMB Control Number 2120-0720. The control number was not available when the final rule was published, thus necessitating publication of this notice. The FAA request was approved by OMB without change and expires on April 30, 2010.

Title 49 U.S.C. 106(g), 40113, 40119, 41706, 44101, 44701-44702, 44705, 44709-44711, 44713, 44716-44717, 44722, 46105, grants authority to the Administrator to publish this notice. The final rule (71 FR 75616) became effective on February 13, 2007 and the compliance date for information collection requirements in §§ 460.5, 460.7, 460.9, 460.19, 460.45, and 460.49 is May 17, 2007.

Issued in Washington, DC on May 8, 2007.
Pamela Hamilton-Powell,
Director, Office of Rulemaking Aviation Safety.

[FR Doc. E7-9480 Filed 5-16-07; 8:45 am]

BILLING CODE 4910-13-P